NATIONAL AERONAUTICS AND SPACE ADMINISTRATION

[Notice 02-035]

NASA Advisory Council, Space Science Advisory Committee, Sun-Earth Connection Advisory Subcommittee; Meeting

AGENCY: National Aeronautics and Space Administration (NASA).

ACTION: Notice of meeting.

SUMMARY: In accordance with the Federal Advisory Committee Act, Public Law 92-463, as amended, the National Aeronautics and Space Administration announces a forthcoming meeting of the NASA Advisory Council, Space Science Advisory Committee, Sun-Earth Connection Advisory Subcommittee.

DATES: Monday, April 1, 2002, 8:30 a.m. to 5 p.m.; Tuesday, April 2, 2002, 8:30 to 5 p.m.; and Wednesday, April 3, 8:30 a.m. to noon.

ADDRESSES: NASA Headquarters, Conference Room 5H46, 300 E Street, SW., Washington, DC 20546.

FOR FURTHER INFORMATION CONTACT: Ms. Marian Norris, Code SB, National Aeronautics and Space Administration, Washington, DC 20546, 202/358-4452.

SUPPLEMENTARY INFORMATION: The meeting will be open to the public up to the capacity of the room. The agenda for the meeting includes the following topics:

—Sun-Earth Connection Program Overview: Budget, Ongoing Program, Future Activities

—Solar Terrestrial Probes Update

—Living With a Star Update

—Sun-Earth Connection Roadmap and Strategic Planning

—Discussion and Writing Groups

It is imperative that the meeting be held on these dates to accommodate the scheduling priorities of the key participants. Visitors will be requested to sign a visitor's register.

Sylvia K. Kraemer,
Advisory Committee Management Officer, National Aeronautics and Space Administration.

[FR Doc. 02-5716 Filed 3-8-02; 8:45 am]

BILLING CODE 7510-01-P